DEPARTMENT OF THE INTERIOR

Bureau of Land Management

[AZ 020-03-1610-DO-089A]

Notice of Intent To Prepare a Resource Management Plan and Environmental Impact Statement for the Phoenix Field Office

AGENCY: Bureau of Land Management, Phoenix Field Office.

ACTION: Notice of intent to prepare a Resource Management Plan (RMP) and Environmental Impact Statement (EIS) for the Phoenix Field Office. These lands are located in Maricopa, Pinal, Pima, and Gila Counties, Arizona.

SUMMARY: This document provides notice that the Bureau of Land Management (BLM), Phoenix Field Office intends to prepare a RMP for the southern portion of the Phoenix Field Office (referred to as Phoenix South RMP) in association with the Sonoran Desert National Monument RMP (notice published in the Federal Register Vol. 67, No. 79, 20158; Wednesday April 24, 2002) with one associated EIS for the two planning efforts. This planning activity encompasses approximately 1 million acres of public land. The plan will fulfill the needs and obligations set forth by the National Environmental Policy Act (NEPA), the Federal Land Policy and Management Act (FLPMA), other laws, regulations, and BLM management policies. The BLM will work closely with interested parties to identify the management decisions that are best suited to the needs of the public. This collaborative process will take into account local, regional, and national needs and concerns. The first phase of the planning process is scoping which includes the identification of issues that should be addressed in the planning process and development of planning criteria.

DATES: The scoping comment period commences with the publication of this notice and will continue for at least 60 days. Public meetings will be held in approximately late 2002-early 2003. Public notice will be provided specifying when the meetings will occur and will include notification of when the scoping period will close.

Public Participation: Public meetings will be held throughout the plan scoping and preparation period. In order to ensure local community participation and input, public meeting locations will be rotated among towns in the planning area. Towns in the planning area include the metro-Phoenix area, Tonopah, Buckeye, Gila Bend, Maricopa, Ajo, Sells, Casa Grande, and Miami-Globe. Early participation by all those interested is encouraged and will help determine the future management of the public lands. At least 15 days public notice will be given for activities where the public is invited to attend. Written comments will be accepted throughout the planning process. Meetings and comment deadlines will be announced through the local news media, newsletters, and the BLM Web site (http://www.az.blm.gov). In addition to the ongoing public participation process, formal opportunities for public participation will be provided upon publication of the draft RMP/EIS.

ADDRESSES: Phoenix South—Sonoran Desert NM Planning, Bureau of Land Management, Phoenix Field Office, 21605 N. 7th Avenue, Phoenix, AZ 85027; Fax 623-580-5580. For further information and/or to have your name added to our mailing list, contact the Phoenix Field Office, Telephone 623-580-5500.

SUPPLEMENTARY INFORMATION: The planning area is generally bounded by: Interstate 10 and Highway 60 on the north, the Maricopa-Yuma County line on the west, the U.S.-Mexican border on the south, and the eastern Phoenix Field Office boundary on the east. The resulting Phoenix South RMP will replace the Lower Gila South RMP, and parts of the Lower Gila North MFP and the Phoenix RMP. Preliminary issues and management concerns have been identified by BLM personnel, other agencies, and in meetings with individuals and user groups. They represent the BLM's knowledge to date on the existing issues and concerns with current management. Additional issues and modifications to known issues will be identified during public scoping. The major issues that will be addressed in the plan effort include, but are not limited to, management of public land resources including natural resource management; cultural resource management and protection; recreation/visitor use and safety; access and transportation on the public lands; location and management of utility corridors; management of grazing, mining, mineral materials, and other uses; and integration of public land management, local community, tribal, and other agency needs and plans.

After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase. An interdisciplinary approach will be used to develop the plan in order to consider the variety of resource issues and concerns identified. Disciplines involved in the planning process will include rangeland, minerals and geology, outdoor recreation, archaeology, wildlife, wilderness, lands and realty, hydrology, soils, sociology, and economics. Where necessary, outside expertise may be used.

Mervin G. Boyd,
Acting Manager, Phoenix Field Office.

[FR Doc. 02-30992 Filed 12-6-02; 8:45 am]

BILLING CODE 4310-32-P